DEPARTMENT OF ENERGY

Federal Energy Regulatory Commission

[Docket No. RP99-381-008]

Wyoming Interstate Company, Ltd.; Notice of Filing of Refund Report

February 16, 2001.

Take notice that on February 9, 2001 Wyoming Interstate Company, Ltd. (WIC) filed a refund report in Docket No. RP99-381-000, et al.

WIC states that the filing and refunds were made to comply with the Federal Energy Regulatory Commission's (Commission) Order of September 27, 2000. These amounts were paid by WIC on December 11, 2000.

WIC states that the refund report summarizes transportation refund amounts for the period January 1, 2000 through October 31, 2000 pursuant to Article VI of WIC's Stipulation and Agreement as approved in the Commission's September 27, 2000 Order.

WIC states that the copies of WIC's filing are being mailed to all holders of the tariff and to public bodies and that the filing is available for public inspection at WIC's offices in Colorado Springs, Colorado.

Any person desiring to protest said filing should file a protest with the Federal Energy Regulatory Commission, 888 First Street, N.E., Washington, D.C. 20426, in accordance with Section 385.211 of the Commission's Rules and Regulations. All such protests must be filed on or before February 23, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-4509 Filed 2-22-01; 8:45 am]

BILLING CODE 6717-01-M